DEPARTMENT OF JUSTICE

United States v. Sterling Minter and JoAnn Minter; Notice of Lodging of Consent Decree Under Comprehensive Environmental Response, Compensation and Liability Act

In accordance with Departmental policy, 28 CFR 50.7, notice is hereby given that a proposed Consent Decree in United States v. Sterling Minter and Jo Ann Minter (W.D.Va.), C.A. No. 7:01CV00449, was lodged on June 19, 2001, with the United States District Court for the Western District of Virginia. The Consent Decree resolves the United States' claims against Sterling Minter and Joan Minter with respect to response costs incurred, pursuant to Section 107 of the Comprehensive Environmental Response, Compensation and Liability Act, as amended (“CERCLA”), 42 U.S.C. 9607, in connection with the clean-up of the Old Salem Tannery Site, located near Salem, Roanoke County, Virginia. The Consent Decree also resolves the United States' civil penalty claim, pursuant to section 106(b) of CERCLA, 42 U.S.C. 9606(b), related to an administrative clean-up order dated November 24, 1992.

Under the Consent Decree, Sterling Minter and JoAnn Minter will pay the Environmental Protection Agency (“EPA”) $100,000 in reimbursement of response costs incurred by EPA in connection with the clean-up of the site. In addition, Sterling Minter will pay $10,000 to resolve EPA's claim, pursuant to section 106(b) Of CERCLA, 42 U.S.C. 9606(b), related to Sterling Minter's failure to comply fully with the November 24, 1992 administrative order.

The Department of Justice will receive, for a period of 30 days from the date of this publication, comments relating to proposed Consent Decree. Comments should be addressed to Assistant Attorney General for the Environment and Natural Resources Division, Department of Justice, Washington, DC 20530, and should refer to United States Sterling v. Minter and JoAnn Minter, C.A. No. 7:01CV00449, DOJ Reference No. 90-11-3-06312/1.

The proposed Consent Decree may be examined at the Office of the United States Attorney, 105 Franklin Road, SW., Suite One, Roanoke, Virginia 24011-2305; and the Region III Office of the Environmental Protection Agency, 1650 Arch Street, Philadelphia, Pennsylvania 19103-2029. A copy of the proposed Consent Decree may be obtained by mail from the Department of Justice Consent Decree Library, PO Box 7611, Washington, DC 20044. In requesting a copy, please refer to the referenced case and enclose a check in the amount of $9.00 (.25 cents per page production costs), payable to the Consent Decree Library.

Robert D. Brook,
Assistant Section Chief, Environmental Enforcement Section, Environment and Natural Resources Division.

[FR Doc. 01-16771 Filed 7-3-01; 8:45 am]

BILLING CODE 4410-15-M